DEPARTMENT OF THE INTERIOR

National Park Service

National Register of Historic Places; Notification of Pending Nominations

Nominations for the following properties being considered for listing in the National Register were received by the National Park Service before MAY 20, 2000. Pursuant to section 60.13 of 36 CFR Part 60 written comments concerning the significance of these properties under the National Register criteria for evaluation may be forwarded to the National Register, National Park Service, 1849 C St. NW, NC400, Washington, DC 20240. Written comments should be submitted by June 14, 2000.

Carol D. Shull,
Keeper of the National Register.

Alaska

Valdez-Cordova Borough-Census Area

Bremner Historic Mining District, (Mineral Development in Wrangell-St. Elias National Park and Preserve, Alaska MPS)

Wrangell-St. Elias Park and Preserve, Chitina, 00000659

Florida

Highlands County

Kenilworth Lodge, 836 South Lakeview Dr., Sebring, 00000661

Polk County

Winter Haven Heights Historic Residential District, (Winter Haven, Florida MPS)

Roughly Lake Martha, 2nd St. NE, 5th St. NE, and Avenue A NE, Winter Haven, 00000660

Hawaii

Maui County

Baldwin, Henry Perrine, High School, (Maui Public Schools MPS)

Kaahumanu Ave., Kahuli, 00000667

Kanae School, (Maui Public Schools MPS)

Hana Highway, Keanae, 00000665

Kaupo School, (Maui Public Schools MPS)

Government Rd., Kaupo, 00000662

Paia School, (Maui Public Schools MPS)

Paia vicinity, Paia, 00000664

Puunene School, (Maui Public Schools MPS)

Puunene Ave., Puunene, 00000663

Wailuku School, (Maui Public Schools MPS) High St.,

Wailuku, 00000666

Illinois

Champaign County

Elm Street Court, 1-8 Elm Street Court, Urbana, 00000681

Ricker, Nathan C., House, 612 W. Green St., Urbana, 00000682

Indiana

Johnson County

Hopewell Presbyterian Church, 548 W 100 N, Franklin, 00000680

La Porte County

Michigan City Post Office, 126 E. 5th St., Michigan City, 00000675

Lawrence County

Madden School, 620 H St., Bedford, 00000673

Marion County

Oldfields, 1200 W. 38th St., Indianapolis, 00000676

Marshall County

Forest Place Historic District, Forest Place, bet. College Ave. and Lake Shore Dr., Culver, 00000671

Porter County

Porter Town Hall, 303 Franklin St., Porter, 00000678

Posey County

New Harmony Historic District, Roughly bounded by Third St., Steammill St., Main St., inc. Maple Hill Cem., Arthur St., Atheneum prop. and North St., New Harmony, 00000669

St. Joseph County

Leeper Park, Roughly bounded by St. Joseph R, Park Ln., and Bartlett St., South Bend, 00000679

St. Joseph County Infirmary, 3016 Portage Ave., South Bend, 00000670

Vigo County

Terre Haute Fire Station No. 8, 1831 Wabash Ave., Terre Haute, 00000668

Vigo County Home for Dependent Children, 7140 Wabash Ave., Terre Haute, 00000674

Wayne County

King—Dennis Farm, 2939 King Rd., Centerville, 00000677

White County

Monon Commercial Historic District, Roughly Market St., bet. 3rd St. and 5th St., and 4th St. bet. Arch St. and Railroad St., Monon, 00000672

Louisiana

Caddo Parish

Shreveport Fire Station #8, 3406 Velva St., Shreveport, 00000683

Rapides Parish

Schnack, C.A., Jewelry Co. Store, 924 Third St., Alexandria, 00000684

Massachusetts

Barnstable County

Stony Brook—Factory Village Historic District, Stony Brook Rd.; Setucket Rd., Run Hill Rd., Brewster, 00000688

Middlesex County

Hubbard—French District, 324 and 342 Sudbury Rd., Concord, 00000686

Norfolk County

Fisher School—High Street Historic District, 748-850; 751-823 High St., Westwood, 00000687

Plymouth County

Middleborough Center Historic District, Roughly bounded by Conraill RR, Frank, Pierce, School, North Sts., Nemasket R., and East Grove St., Middleborough, 00000685

Minnesota

Ramsey County

Brooks, Edward, Sr. and Markell, House, 176 N. Mississippi River Blvd., St. Paul, 00000689

Missouri

Buchanan County

Cathedral Hill Historic District, North 9th St., Powell St. and North 13th St., St. Joseph, 00000691

Cass County

Stumbaugh Post No. 180 GAR Hall, Missouri Hwy T, Austin, 00000694

Cole County

Parker, Lester S. and Missouri “Zue” Gordon, House, 624 E. Capitol Ave., Jefferson City, 00000690

New Jersey

Camden County

Kay—Evans Farm, 100 Borton Mill Rd., Cherry Hill Township, 00000693

North Carolina

Carteret County

Cape Lookout Village Historic District, Cape Lookout from Lighthouse to Coast Guard St.; bounded by ocean and a concrete road, and concrete road across Bight, Harkers Island, 00000692

South Carolina

Marion County

Mt. Olive Baptist Church, 301 Church St., Mullins, 00000695

Texas

Travis County

Schemedes, Kurt and Meta, House, 804 Baylor St., Austin, 00000696

Washington

Whatcom County

Si'ke village with historic area called Tsi'lich, Address Restricted, Blaine, 00000697

West Virginia

Hardy County

Funkhouse, Henry, Farm, Funhouse Rd., NW of jct. with Grover Smith Rd., Baker, 00000698

Wisconsin

Clark County

Neillsville Downtown Historic District, 500 Block Hewett St. and 118 W. Sixth St., Neillsville, 00000701

Dane County

South Main Street Historic District, S. Main St., jct. with Jefferson and Janesville Sts., Village of Oregon, 00000699

Waukesha County

Needham, Enoch Gardner and Mary Caroline Koch, House, 12713 W. Greenfield Ave., New Berlin, 00000700

A request for Removal has been made for the following resources:

Kansas

Kiowa County

Belvidere Medicine River Bridge, (Masonary Arch Bridges of Kansas TR) 0.25 mi. N of Belvidere, Belvidere vicinity, 85001418

Wyandotte County

Huron Building, 905 N. 7th St., Kansas City, 84001243

[FR Doc. 00-13376 Filed 5-26-00; 8:45 am]

BILLING CODE 4310-70-P